DEPARTMENT OF HOMELAND SECURITY

[Docket No. DHS-2024-0009]

Reestablishment of the Homeland Security Science and Technology Advisory Committee

AGENCY: Science and Technology Directorate, Department of Homeland Security.

ACTION: Committee Management; Notice of Federal advisory committee charter reestablishment.

SUMMARY: The Secretary of Homeland Security has determined that the reestablishment of the Homeland Security Science and Technology Advisory Committee (HSSTAC) is necessary and in the public interest to support the Department of Homeland Security (DHS) Science and Technology Directorate (S&T) in the performance of its duties. This determination follows consultation with the Committee Management Secretariat, General Services Administration.

FOR FURTHER INFORMATION CONTACT: Stanley Cunningham, HSSTAC Designated Federal Official, S&T Department of Homeland Security, hsstac@hq.dhs.gov, 202-254-2311.

SUPPLEMENTARY INFORMATION:

Committee Designation: Homeland Security Science and Technology Advisory Committee (HSSTAC).

Purpose and Objective: The charter of the HSSTAC is being reestablished in accordance with the provisions of the Federal Advisory Committee Act (FACA), Title 5 United States Code, Chapter 10. Once approved, a copy of the reestablished charter will be posted in the FACA database here. The HSSTAC is established pursuant to the authority of Title 6 United States Code, Section 451 and provides independent, consensus scientific and technical advice and recommendations to the Under Secretary for Science and Technology, who leads the Department of Homeland Security (DHS) Science and Technology Directorate (S&T). S&T's activities focus on strengthening America's security and resiliency by providing knowledge products and innovative technology solutions for the Homeland Security Enterprise. The HSSTAC supports the priority needs of DHS S&T's Chief Scientist, Director of Strategy and Policy, as well as the functional offices conducting the Directorate's Research, Development, Test and Evaluation (RDT&E) mission. Upon request by the Secretary of Homeland Security, the committee provides scientific and technical advice to the Homeland Security Advisory Council.

Duration: The committee's reestablished charter is effective starting on the date filed with Congress for a duration of two years. The previous charter was effective starting November 23, 2021, and expired November 23, 2023.

Responsible DHS Officials: Adam Cox, HSSTAC Executive Director, and Stanley Cunningham, HSSTAC Designated Federal Official, S&T Department of Homeland Security, hsstac@hq.dhs.gov.

Dated: March 22, 2024.
Michael J. Miron,
Committee Management Officer.

[FR Doc. 2024-06549 Filed 3-27-24; 8:45 am]

BILLING CODE 9110-9F-P